NATIONAL CREDIT UNION ADMINISTRATION

Sunshine Act: Notice of Agency Meeting

TIME AND DATE:

10 a.m., Thursday, June 18, 2015—Open

11:30 a.m., Thursday, June 18, 2015—Closed

PLACE: Board Room, 7th Floor, Room 7047, 1775 Duke Street (All visitors must use Diagonal Road Entrance), Alexandria, VA 22314-3428.

STATUS: The 10 a.m. meeting will be open, and the 11:30 a.m. meeting will be closed.

MATTERS TO BE CONSIDERED:

10 a.m. (Open):

1. NCUA's Rules and Regulations, Loans in Areas Having Special Flood Hazards.

2. Board Briefing, Interagency Policy Statement Establishing Joint Diversity Assessment Standards.

3. Interpretive Rule and Policy Statement, Minority Depository Institution Preservation Program.

4. Notice and Request for Comment, Regulatory Review in Accordance with the Economic Growth and Regulatory Paperwork Reduction Act.

5. Federal Credit Union Loan Interest Rate Ceiling.

6. NCUA's Rules and Regulations, Member Business Lending.

Recess: 11:15 a.m.

11:30 (Closed):

1. Appeal under Section 701.14 of NCUA's Rules and Regulations. Closed pursuant to Exemptions (6) and (8).

CONTACT PERSON FOR MORE INFORMATION: Gerard Poliquin, Secretary of the Board, Telephone: 703-518-6304.

Gerard Poliquin,
Secretary of the Board.

[FR Doc. 2015-14726 Filed 6-11-15; 4:15 pm]

BILLING CODE 7535-01-P